ENVIRONMENTAL PROTECTION AGENCY

[FRL-9798-1]

Final Issuance of General NPDES Permits (GP) for Small Suction Dredges in Idaho

AGENCY: Environmental Protection Agency, Region 10.

ACTION: Final notice of reissuance of a general permit.

SUMMARY: EPA is issuing a National Pollutant Discharge Elimination System (NPDES) General Permit (IDG-37-0000) to placer mining operations in Idaho for small suction dredges (intake nozzle size of 5 inches in diameter or a diametric equivalent or less and with equipment rated at 15 horsepower or less). On January 22, 2010, EPA proposed the GP and there was a 45 day comment period. Public Informational Workshops were held in Grangeville, Boise, Salmon and Idaho Falls the week of February 22. During the comment period, EPA received many comments and decided to make changes to the draft based on the comments received. On May 1, 2012, EPA re-noticed the GP with a new Fact Sheet requesting new comments. The comment period ended on June 1, 2012.

DATES: The issuance date of the GP is April 4, 2013, the date of publication of this notice. The GP will be effective May 6, 2013. Facilities may start submitting Notices of Intent (NOI) to receive coverage under the GP.

ADDRESSES: Copies of the GP and Response to Comments are available upon request. Written requests may be submitted to EPA, Region 10, 1200 Sixth Avenue, Suite 900, OWW-130, Seattle, WA 98101. Electronic requests may be mailed to: washington.audrey@epa.gov or godsey.cindi@epa.gov.

FOR FURTHER INFORMATION CONTACT: The GP, Fact Sheet and Response to Comments along with detailed maps may be found on the Region 10 Web site at http://yosemite.epa.gov/r10/water.nsf/npdes+permits/idsuction-gp.

Requests by telephone may be made to Audrey Washington at (206) 553-0523 or to Cindi Godsey at (907) 271-6561.

SUPPLEMENTARY INFORMATION:

EPA requested final certification under the Clean Water Act § 401 from the State of Idaho and Tribal governments. EPA received certification from the Idaho Department of Environmental Quality in a letter dated March 8, 2013 that the subject discharges comply with the applicable provisions of Sections 208(e), 301, 302, 306 and 307 of the Clean Water Act.

EPA received letters from the Coeur d'Alene Tribe (May 23, 2012) and the Shoshone Bannock Tribe (March 20, 2013) denying certification. As a result of Tribal government-to-government consultation and coordination, the GP does not cover any of the five Reservations with land within the boundaries of the State of Idaho.

EPA prepared a Biological Evaluation for consultation with the US Fish and Wildlife Service and the National Marine Fisheries Service. EPA received concurrence from both Services on a Not Likely to Adversely Affect determination.

Executive Order 12866: The Office of Management and Budget has exempted this action from the review requirements of Executive Order 12866 pursuant to Section 6 of that order.

Regulatory Flexibility Act: Under the Regulatory Flexibility Act (RFA), 5 U.S.C. 601 et seq., a Federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the RFA. Notwithstanding that general permits are not subject to the RFA, EPA has determined that these general permits, as issued, will not have a significant economic impact on a substantial number of small entities.

Dated: March 28, 2013.
Daniel D. Opalski,
Director, Office of Water & Watersheds, Region 10.

[FR Doc. 2013-07752 Filed 4-3-13; 8:45 am]

BILLING CODE 6560-50-P